DEPARTMENT OF THE INTERIOR

Bureau of Indian Affairs

[245A2100DD/AAKC001030/A0A51010.999900]

Proclaiming Certain Lands as Reservation for Yavapai-Apache Nation

AGENCY: Bureau of Indian Affairs, Interior.

ACTION: Notice of reservation proclamation.

SUMMARY: This notice informs the public that the Assistant Secretary—Indian Affairs proclaimed approximately 1308.67 acres, more or less, an addition to the reservation of Yavapai-Apache Nation.

DATES: This proclamation was made on July 10, 2024.

FOR FURTHER INFORMATION CONTACT: Ms. Carla Clark, Bureau of Indian Affairs, Division of Real Estate Services, 1001 Indian School Road NW, Box #44, Albuquerque, New Mexico 87104, carla.clark@bia.gov, (720) 484-3233.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Yavapai-Apache Nation Reservation for the Yavapai-Apache Nation of the Camp Verde Indian Reservation, Arizona in Yavapai County, Arizona.

Yavapai-Apache Nation of the Camp Verde Indian Reservation, Arizona Gila and Salt River Base and Meridian Yavapai County, Arizona, Legal Descriptions Containing 1308.67 Acres, More or Less

Middle Verde 1954 (Camp Verde School) 2.06 Acres

Beginning at a point one Hundred and Forty one (141) feet North and One Hundred and Five (105) feet East of the North east Corner of the school house of said District Number Eight of Yavapai County, State of Arizona, Thence Three Hundred and Twenty Two (322) feet South, Thence Two Hundred and Seventy Four (274) feet West, Thence Three Hundred and Twenty Two (322) feet North, Thence Two Hundred and Seventy Four (274) feet East to the place of beginning, and being a part of the Southwest Quarter of the Northeast Quarter of Section Eleven, Township Fourteen North, Range Four East of the Gila and Salt River Meridian, in Yavapai County, State of Arizona.

Middle Verde 1996 (McDonald 1) 8.87 Acres

A portion of a parcel of land described in Book 2225 of Official Records, Page 908 of the Records of Yavapai County, Arizona (R1), situated in the Northeast ¼ of the Southeast ¼ of Section 11, Township 14 North, Range 4 East, Gila and Salt River Meridian, Yavapai County, Arizona and being more particularly described as follows:

From the Southeast 1/16th corner of said Section 11, thence N 01°48′08″ E [Basis of Bearing (South 1/16th corner to East ¼ of Sections 11 and 12); N 02°03′00″ E (BLM Book No. 334)], along the East 1/16th line of said Section 11, for 50.04 feet to the TRUE POINT OF BEGINNING;

Thence continue N 01°48′08″ E, along said East 1/16th line, for 487.18 feet to a point; thence S 85°12′08″ E for 250.21 feet to a point; thence N 01°40′50″ E, for 335.68 feet to a point on the North parcel line of said Parcel (R1), said point being a nontangent point of curvature;

Thence Southerly, along said North parcel line along a curve to the right, having a control angle of 28°47′12″ and a radius of 409.26 feet for a distance of 205.62 feet, the chord of said curve bears S 71°49′33″ E for 203.48 feet, to a point of tangency;

Thence S 57°25′58″ E, along said North parcel line, for 98.25 feet to a point of curvature;

Thence Southeasterly, along said North parcel line, along a curve to the left, having a central angle of 05°59′26″ and a radius of 718.20 feet, for a distance of 74.08 feet, the chord of said curve bears S 60°25′41″ E, for a 74.85 feet, to a nontangent point;

Thence S 01°48′08″ W, for 680.37 feet to a point;

Thence N 80°04′21″ W, for 594.51 feet to the TRUE POINT OF BEGINNING,

Said parcel contains 8.874 acres of land, more or less, including any easement of record over the above described parcel.

Middle Verde District 1998 (McDonald 2) .68 Acres

A portion of a parcel of land described in Book 2225 of Official Records, Page 908 of the Records of Yavapai County, Arizona (R1), situated in the Northeast ¼ of the Southeast ¼ of Section 11, Township 14 North, Range 4 East, Gila and Salt River Meridian, Yavapai County, Arizona more particularly described as follows:

BEGINNING at the Southeast 1/16 corner of said Section 11, thence N 01°46′08″ E [Basis of Bearing (South 1/16th corner to East ¼ of Sections 11 and 12): N 02°03′00″ E (BLM Book No. 334)], along the East 1/16th line of said Section 11, for 50.04 feet to a point; thence continue S 86°04′21″ E, parallel to the South 1/16th line of said Section 11, for 594.61 feet to a point;

Thence S 01°46′08″ W for 50.04 feet to a point on the said South 1/16th line;

Thence N 86°04′21″ W, along said South 1/16th line, for 594.61 feet to the POINT OF BEGINNING.

Said parcel contains 0.6825 acres of land, more or less, including any easements of record over the above described parcel.

Middle Verde 2006 (Cloverleaf) 349.75 Acres

Parcel No. 1

The Southeast quarter of the Southeast quarter of Section 4, Township 14 North, Range 4 East of the Gila and Salt River Base and Meridian, Yavapai County, Arizona.

Parcel No. 2

The Southwest quarter of the Southwest quarter of Section 3, Township 14 North, Range 4 East of the Gila and Salt River Base and Meridian, Yavapai County, Arizona.

Parcel No. 3

The North half of the Northwest quarter of Section 10, Township 14 North, Range 4 East of the Gila and Salt River Base and Meridian, Yavapai County, Arizona.

Parcel No. 4

The North half of the Northeast quarter of Section 10, Township 14 North, Range 4 East of the Gila and Salt River Base and Meridian, Yavapai County, Arizona.

Parcel No. 5

The Southeast quarter of the Southeast quarter of Section 3, Township 14 North, Range 4 East of the Gila and Salt River Base and Meridian, Yavapai County, Arizona.

Parcel No. 6

That portion of the North half of the Northeast quarter of Section 9 Township 14 North, Range 4 East of the Gila and Salt River Base and Meridian, Yavapai County, Arizona, lying Northeasterly of the Northeasterly right-of-way line of State Highway 279, as it existed in March of 1980;

EXCEPTING therefrom any portion lying within the following described property: BEGINNING at the Northeast corner of Section 9;

Thence South 01 degrees 25 minutes 27.2 seconds East along the East line thereof, 193.785 feet;

Thence South 89 degrees 13 minutes 11 seconds West, 1874.959 feet to the center line of State Highway 279, a point on a curve of 796.531 feet radius;

Thence around said curve to the right in a direction which is West of North 128.90 feet to the end of the curve;

Thence continuing along the center line of said highway on a course of North 14 degrees 54 minutes 25.5 West to the North line of Section 9;

Thence Easterly along the North line of Section 9 to the POINT OF BEGINNING.

Parcel No. 7

The Southeast quarter of the Southwest quarter and the Southwest quarter of the Southeast quarter of Section 3, Township 14 North, Range 4 East of the Gila and Salt River Base and Meridian, Yavapai County, Arizona;

EXCEPT therefrom the following:

(a) The West half of the West half of the Southeast quarter of the Southwest quarter; and

(b) BEGINNING at the South quarter corner of said Section 3, from which the Southeast corner of Section 3 bears South 89 degrees 49 minutes 13.1 seconds East, a distance of 2,637.604 feet;

Thence North 01 degrees 35 minutes 59.7 seconds West, along the mid-section line of said Section 3, 386 feet to the TRUE POINT OF BEGINNING;

Thence South 88 degrees 49 minutes 13.1 seconds East, parallel to the South line of the Southeast quarter of said Section 3, 893.77 feet;

Thence North 01 degrees 35 minutes 59.7 seconds West, parallel to the mid-section line of said Section 3, 912.12 feet;

Thence South 70 degrees 04 minutes 03 seconds West, 967.99 feet;

Thence South 75 degrees 38 minutes 26 seconds West, 774.19 feet;

Thence North 87 degrees 50 minutes 44 seconds West, 213.03 feet (of record 212.78 feet) to a point on the West line of the East half of the West half of the Southeast quarter of the Southwest quarter of said Section 3; Thence South 01 degrees 29 minutes 31 seconds East, 758.40 feet along the West line. of the East half of the West half of the Southeast quarter of the Southwest quarter of said Section 3, to the Southwest corner of the East half of the West half of the Southeast quarter of the Southwest quarter of section 3;

Thence South 88 degrees 45 minutes 10.6 seconds East, 570.25 feet along the South line of the Southeast quarter of the Southwest quarter of said Section 3;

Thence North 01 degrees 35 minutes 59.7 seconds West, parallel to the mid-section line of said Section 3, 377.07 feet;

Thence South 88 degrees 49 minutes 13.1 seconds East, parallel to the South line of the Southeast quarter of said Section 3, a distance of 424.97 feet (of record 424.97 feet) to the TRUE POINT OF BEGINNING.

Middle Verde 2006 (North Cloverleaf) 175.86 Acres

Parcel No. 1

A portion of the West half of Section 4, Township 14 North, Range 4 East of the Gila and Salt River Base and Meridian, Yavapai County, Arizona, more particularly described as follows:

COMMENCING at the Northwest corner of the Southwest half of the Southeast of said Section 4;

Thence North 40 degrees, 11 minutes, 07 seconds West, a distance of 246.42 feet to the TRUE POINT OF BEGINNING;

Thence continuing North 40 degrees, 11 minutes, 07 seconds West, a distance of 458.88 feet; Thence North 40 degrees, 10 minutes, 03 seconds West, a distance of 538.66 feet;

Thence North 08 degrees, 16 minutes, 09 seconds East, a distance of 366.63 feet; Thence North 54 degrees, 48 minutes, 42 seconds East, a distance of 844.33 feet;

Thence South 03 degrees, 31 minutes, 32 seconds West, a distance of 1614.54 feet to the TRUE POINT OF BEGINNING.

Parcel No. 2

A parcel of ground lying in Section 4, Township 14 North, Range 4 West of the Gila and Salt River Base and Meridian, Yavapai County, Arizona, described as follows:

COMMENCING at the Southeast corner of Section 4;

Thence North 01 degrees, 18 minutes, 30 Seconds West (basis of bearing), 2690.34 feet; Thence South 89 degrees, 22 minutes, 31 seconds West, 1324.53 feet;

Thence North 01 degrees, 08 minutes, 37 seconds West, 992.19 feet;

Thence North 62 degrees, 22 minutes, 15 seconds West, 521.55 feet;

Thence South 47 degrees, 46 minutes, 18 seconds West, 286.60 feet to the TRUE POINT OF BEGINNING; Thence continuing South 47 degrees, 46 minutes, 18 seconds West, 900.00 feet;

Thence South 03 degrees, 31 minutes, 32 seconds West, 1614.54 feet;

Thence South 40 degrees, 11 minutes, 07 seconds East, 245.42 feet;

Thence South 00 degrees, 58 minutes, 39 seconds East, 503.92 feet;

Thence South 48 degrees, 32 minutes, 35 seconds East, 630.41 feet;

Thence South 45 degrees, 29 minutes, 33 seconds East 154.80 feet to a point of curvature, the central point of which lies South 44 degrees, 30 minutes, 27 seconds West, 563.98 feet;

Thence through a central angle of 01 degrees, 30 minutes, 09 seconds along an arc length of 14.79 feet; Thence North 00 degrees, 05 minutes, 28 seconds East, 3444.09 feet to the TRUE POINT OF BEGINNING.

Parcel No. 3

A portion of Section 4, Township 14 North, Range 4 East of the Gila and Salt River Base and Meridian, Yavapai County, Arizona, more particularly described as follows:

COMMENCING at the East quarter corner of said Section 4;

Thence South 89 degrees, 22 minutes, 31 seconds West, a distance of 452.94 feet to the center of the Verde River, as located in August of 1987 and the TRUE POINT OF BEGINNING;

Thence continuing South 89 degrees, 22 minutes, 31 seconds West, a distance of 871.59 feet;

Thence North 01 degrees, 08 minutes, 37 seconds West, a distance of 992.19 feet to said centerline of the Verde River;

Thence South 41 degrees, 07 minutes, 26 seconds East, along said center of the Verde River, a distance of 652.38 feet;

Thence South 28 degrees, 66 minutes, 19 seconds East, along said center of the Verde River, a distance of 205.60 feet;

Thence South 39 degrees, 52 minutes, 09 seconds East, along said center of the Verde River, a distance of 104.83 feet;

Thence South 57 degrees, 08 minutes, 02 seconds East, along said center of the Verde River, a distance of 319.65 feet;

Thence South 25 degrees, 21 minutes, 03 seconds East, along said center of the Verde River, a distance of 63.31 feet to the TRUE POINT OF BEGINNING.

Parcel No. 4

Portions of Sections 4 and 9, Township 14 North, Range 4 East of the Gila and Salt River Base and Meridian, Yavapai County, Arizona, being more particularly described as follows:

BEGINNING at the Northeast corner of said Section 9;

Thence South 01 degrees, 25 minutes, 27 seconds East along the East line of said Section 9, a distance of 193.16 feet;

Thence South 89 degrees, 10 minutes, 40 seconds West, a distance of 1874.99 feet to a point on. the centerline of Old Highway No. 279, said point being a point on a non-tangent curve concave Northeasterly from which the radius bears North 65 degrees, 52 minutes, 19 seconds East, a distance of 796.53 feet;

Thence Northwesterly along said centerline and said curve through a central angle of 09 degrees, 13 minutes, 15 seconds, an arc distance of 128.19 feet to a point of tangency;

Thence north 14 degrees, 54 minutes, 26 seconds West along said centerline, a distance of 129.87 feet to the beginning of a non-tangent curve concave Southwesterly from which the radius bears South 75 degrees, 06 minutes, 35 seconds West, a distance of 563.98 feet;

Thence Northwesterly along said centerline and said curve through a central angle of 30 degrees, 36 minutes, 08 seconds, an arc distance of 301.23 feet to a point of non-tangency;

Thence departing said centerline, North 00 degrees, 15 minutes, 56 seconds East, a distance of 3432.99 feet;

Thence North 47 degrees, 46 minutes, 18 seconds East, a distance of 286.60 feet;

Thence South 62 degrees, 22 minutes, 15 seconds East, a distance of 521.55 feet to a point on the West line of the Southeast Quarter of the Northeast Quarter of said Section 4;

Thence South 01 degrees, 08 minutes, 37 seconds East, along said West line, a distance of 992.19 feet to a point on the East-West mid-section line of said Section 4;

Thence North 89 degrees, 22 minutes, 31 seconds East along said mid-section line, a distance of 871.59 feet. Thence South 25 degrees, 21 minutes, 03 seconds East, a distance of 222.64 feet;

Thence South 29 degrees, 48 minutes, 09 seconds East, a distance of 759.21 feet to a point on the East line of said Section;

Thence South 01 degrees, 18 minutes, 30 seconds East along the East line of said Section 4, a distance of 480.00 feet;

Thence South 89 degrees, 17 minutes, 50 seconds West along the North line of the Southeast Quarter of the Southeast Quarter of said Section 4, a distance of 1328.40 feet;

Thence South 01 degrees, 08 minutes, 33 seconds East along the West line of said Southeast Quarter of the Southeast Quarter, a distance of 1346.93 feet;

Thence North 89 degrees, 13 minutes, 10 seconds East along the South line of said Section 4 and the North line of said Section 9 a distance of 1332.28 feet to the POINT OF BEGINNING.

Middle Verde 2006 (Keith Well) 7.35 Acres

A parcel of land in the Southwest quarter, of the Southwest quarter, of Section 2 and the Northwest quarter, of the Northwest quarter, of Section 11, Township 14 North, Range 4 East, of the Gila and Salt River Base and Meridian, Yavapai County, Arizona, more particularly described as follows:

COMMENCING for reference at a BLM Brass Cap dated 1959 being the common corner of Sections 2, 3, 10 and 11 from which the quarter corner of Sections 2 and 3 bears North 0 degrees 03 minutes 29 seconds East, a distance of 2767.77 feet, said quarter corner being a recovered one half inch rebar with obliterated plastic cap;

Thence South 0 degrees 09 minutes 12 seconds West and along the West line of said Section 11, a distance of

5.52 feet;

Thence South 87 degrees 56 minutes 47 seconds East, a distance of 544.98 feet to a point;

Thence North 79 degrees 49 minutes 23 seconds East, a distance of 44.52 feet to the TRUE POINT OF BEGINNING;

Thence continuing along the aforesaid course North 79 degrees 49 minutes 23 seconds East, a distance of 747.88 feet to a point on the East line of the Southwest quarter of the Southwest quarter said Section 2;

Thence South 0 degrees 23 minutes 38 seconds East, and along said East line a distance of 176.00 feet to the Southeast corner of the said Southwest quarter, of the Southwest quarter;

Thence South 0 degrees 50 minutes 06 seconds West, and along the East line of the Northwest quarter, of the Northwest quarter of said Section 11, a distance of 289.56 feet;

Thence North 87 degrees 04 minutes 39 seconds West, a distance of 734.85 feet;

Thence North 0 degrees 09 minutes 12 seconds East, a distance of 295.92 feet to the TRUE POINT OF BEGINNING.

Middle Verde 2006 (Tunlii) 561.79 Acres

Parcel No. 1

Parcel G less S & G & 50

The following parcel is located within Sections 10, 11, 14 and 15, Township 14 North, Range 4 East of the Gila and Salt River Base and Meridian, Yavapai County, Arizona, described as follows:

COMMENCING at the Northeast corner of the said West half of the Southwest quarter of Section 11;

Thence South 01 degrees 15 minutes 21 seconds West along the East line of the said West half of the Southwest quarter of Section 11 for a distance of 613.28 feet to the POINT OF BEGINNING;

Thence continuing South 01 degrees 15 minutes 21 seconds West along said East_line for a distance of 2013.26 feet to the Southeast corner of the said West half of the Southwest quarter Section 11 being also the Northeast corner of the said West half of the Northwest quarter of Section 14;

Thence South 36 degrees 19 minutes 40 seconds West for a distance of 1180.19 feet; Thence South 67 degrees 51 minutes 12 seconds West for a distance of 2075.43 feet; Thence South 77 degrees 41 minutes 31 seconds West for a distance of 56.29 feet; Thence North 30 degrees 47 minutes 46 seconds West for a distance of 351.57 feet;

Thence North 71 degrees 57 minutes 04 seconds West for a distance of 166.47 feet to a point on a curve concave Northwesterly having a radius of 350.00 feet;

Thence Northerly along the arc of said curve through a central angle of 59 degrees 10 minutes 19 seconds, for a distance of 361.46 feet;

Thence North 41 degrees 07 minutes 23 seconds West for a distance of 305.00 feet to the beginning of a curve concave Northeasterly having a radius of 1280.38 feet;

Thence Northwesterly along the arc of said curve through a central angle of 08 degrees 55 minutes 54 seconds, for a distance of 199.59 feet;

Thence North 32 degrees 11 minutes 29 seconds West for a distance of 207.00 feet;

Thence North 57 degrees 48 minutes 31 seconds East for a distance of 167.00 feet to the beginning of a curve concave Southeasterly having a radius of 302.22 feet;

Thence Northeasterly along the arc of said curve through a central angle of 36 degrees 37 minutes 01 seconds, for a distance of 193.15 feet;

Thence South 85 degrees 34 minutes 28 seconds East for a distance of 377.75 feet;

Thence South 41 degrees 07 minutes 23 seconds East for a distance of 137.78 feet to the beginning of a curve concave Southeasterly having a radius of 644.25 feet;

Thence Northeasterly along the arc of said curve through a central angle of 40 degrees 04 minutes 50 seconds, for a distance of 450.68 feet;

Thence North 88 degrees 57 minutes 27 seconds East for a distance of 187.41 feet to the beginning a curve concave Northwesterly having a radius of 190.38 feet;

Thence Northeasterly along the arc a said curve through a central angle of 34 degrees 59 minutes 06 seconds, for a distance of 116.25 feet;

Thence North 53 degrees 58 minutes 21 seconds East for a distance of 152.03 feet to the beginning of a curve concave Southeasterly having a radius of 373.08 feet;

Thence Northeasterly along the arc of said curve through a central angle of 18 degrees 16 minutes 21 seconds, for a distance of 118.98 feet;

Thence North 72 degrees 14 minutes 42 seconds East for a distance of 192.61 feet to the beginning of a curve concave Northwesterly having a radius of 545.12 feet;

Thence Northeasterly along the arc of said curve through a central angle of 95 degrees 29 minutes 16 seconds, for a distance of 908.48 feet;

Thence North 23 degrees 14 minutes 34 seconds West for a distance of 188.90 feet to the beginning of a curve concave Northeasterly having a radius of 328.17 feet;

Thence Northwesterly along the arc of said curve through a central angle of 20 degrees 43 minutes 19 seconds, for a distance of 118.69 feet;

Thence North 02 degrees 31 minutes 15 seconds West for a distance of 138.31 feet to the beginning of a curve concave Southwesterly having a radius of 256.57 feet;

Thence Northwesterly along the arc of said curve through a central angle of 50 degrees 07 minutes 57 seconds, for a distance of 224.49 feet;

Thence North 52 degrees 39 minutes 12 seconds West for a distance of 336.62 feet to the beginning of a curve concave Southwesterly having a radius of 273.90 feet;

Thence Northwesterly along the arc of said curve through a central angle of 20 degrees 30 minutes 19 seconds, for a distance of 98.03 feet;

Thence North 16 degrees 50 minutes 29 seconds East for a distance of 240.93 feet; Thence North 02 degrees 00 minutes 59 seconds East for a distance of 344.65 feet;

Thence South 87 degrees 33 minutes 24 seconds East for a distance of 1792.16 feet back to the POINT OF BEGINNING.

Parcel No. 2

Parcel “50”

The following parcel is located within Sections 14 and 15 of Township 14 North, Range 4 East of the Gila and Salt River Base and Meridian, Yavapai County, Arizona, described as follows:

COMMENCING at the Northeast corner of the said West half of the Southwest quarter of Section 11;

Thence South 01 degrees 15 minutes 21 seconds West along the East line of the said West half of the Southwest quarter of Section 11 for a distance of 2626.54 feet to the POINT OF BEGINNING, being also the Southeast corner of said West half of the Southwest quarter Section 11 being the same point as Northeast corner of the West half of the Northwest quarter of said Section 14;

Thence South 02 degrees 12 minutes 45 seconds West along the East line of said West half of the Northwest quarter of Section 14 for a distance of 1033.72 feet;

Thence South 52 degrees 25 minutes 21 seconds West for a distance of 702.24 feet more or less; Thence South 41 degrees 55 minutes 02 seconds West for a distance of 486.49 feet;

Thence South 61 degrees 50 minutes 08 seconds, for a distance of 619.06; feet to the beginning of a curve concave Southeasterly having a radius of 342.81 feet;

Thence Southwesterly along the arc of said curve through a central angle of 47 degrees 15 minutes 51 seconds, for a distance of 282.79 feet;

Thence South 14 degrees 34 minutes 17 seconds West for a distance of 239.53 feet; Thence North 85 degrees 05 minutes 52 seconds West for a distance of 425.00 feet; Thence North 24 degrees 26 minutes 18 seconds Fast for a distance of 419.24 feet;

Thence North 68 degrees 04 minutes 16 seconds West for a distance of 113.92 feet to the beginning of a curve concave Northwesterly having a radius of 60.00 feet;

Thence Southwesterly along the arc of said curve through a central angle of 53 degrees 04 minutes 16 second, for a distance of 55.58 feet to the point of reverse curvature of a curve being concave Southeasterly having a radius of 87.50 feet;

Thence Southwesterly along the arc of said curve through a central angle of 25 degrees 30 minutes 45 seconds, for a distance of 38.96 feet;

Thence South 49 degrees 29 minutes 15 seconds West for a distance of 382.65 feet; Thence North 20 degrees 06 minutes 28 seconds West for a distance of 614.00 feet; Thence North 62 degrees 14 minutes 29 seconds East for a distance of 42.94 feet; Thence North 21 degrees 48 minutes 05 seconds West for a distance of 80.78 feet; Thence North 67 degrees 51 minutes 12 seconds East for a distance of 2075.43 feet;

Thence North 36 degrees 19 minutes 40 seconds East for a distance of 1180.19 feet back to the POINT OF BEGINNING.

Together with an easement for ingress, egress and utilities over the following described parcel. Easement “A”

COMMENCING at the Northeast corner of the said West half of the Southwest quarter of Section 11;

Thence South 01 degrees 15 minutes 21 seconds West along the East line of the said West half of the Southwest quarter of Section 11 for a distance of 2626.54 feet to the Southeast corner of said West half of the Southwest quarter of Section 11 being the same point as the Northeast corner of the West half of the Northwest quarter of said Section 14;

Thence South 02 degrees 12 minutes 45 seconds West along the East line of said West half of the Northwest quarter of Section 14 for a distance of 2807.44 feet to the Southeast corner of said West half of the Northwest quarter of Section 14;

Thence South 88 degrees 17 minutes 45 seconds West along the South line of said West half of the Northwest quarter of Section 14 for a distance of 1339.71 feet more or less to the quarter corner common to said Section 14 and 15;

Thence North 85 degrees 05 minutes 52 seconds West along the South line of the Northeast quarter of said Section 15 for a distance of 1405.30 feet to a point on the East right of way line of Highway 279, being also a point on a curve concave Northeasterly having a radius of 7539.44 feet;

Thence Northwesterly along said right of way and the arc of said curve through a central angle of 04 degrees 31 minutes 40 seconds, for a distance of 595.82 feet;

Thence continuing along the right of way North 28 degrees 37 minutes 23 seconds West for a distance of 459.92 feet to the POINT OF BEGINNING;

Thence continuing along said right of way North 28 degrees 37 minutes 23 seconds West for a distance of 100.00 feet;

Thence North 61 degrees 22 minutes 37 seconds East for a distance of 275.55 feet to the beginning of a curve concave Northwesterly having a radius of 350.00 feet;

Thence along the arc of said curve through a central angle of 43 degrees 19 minutes 41. seconds, for a distance of 264.68 feet;

Thence South 71 degrees 57 minutes 04 seconds East for a distance of 100.00 feet to the beginning of a curve concave Northwesterly having a radius of 450.00 feet;

Thence Southwesterly along the arc of said curve through a central angle of 43 degrees 19 minutes 41 seconds, for a distance of 340.30 feet;

Thence South 61 degrees 22 minutes 37 seconds West for a distance of 275.55 feet back to the POINT OF BEGINNING.

Together with an easement for ingress, egress and utilities over the following described parcel. Easement “B”

COMMENCING at the Northeast corner of the said West half of the Southwest quarter of Section 11;

Thence South 01 degrees 15 minutes 21 seconds West along the East line of the said West half of the Southwest quarter of Section 11 for a distance of 2626.54 feet to the Southeast corner said West half of the Southwest quarter of Section 11 being the same point as the Northeast corner of the West half of the Northwest quarter of said Section 14;

Thence South 02 degrees 12 minutes 45 seconds West along the East line of said West half of the Northwest quarter of Section 14 for a distance of 2807.44 feet to the Southeast corner of said West half of the Northwest quarter of Section 14;

Thence South 88 degrees 17 minutes 45 seconds West along the South line of the said West half of the Northwest quarter of Section 14 for a distance of 1339.71 feet more or less to the quarter corner common to said Section 14 and 15;

Thence North 85 degrees 05 minutes 52 seconds West along the South line of the Northeast quarter of said Section 15 for a distance of 1405.30 feet to a point on the East right of way line of Highway 279, being also a point on a curve concave Northeasterly having a radius of 7539.44 feet;

Thence Northwesterly along said right of way and the arc of said curve through a central angle of 04 degrees 31 minutes 40 seconds, for a distance of 595.82 feet;

Thence continuing along said right of way North 28 degrees 37 minutes 23 seconds West for a distance of 559.92 feet;

Thence North 61 degrees 22 minutes 37 seconds East for a distance of 275.55 feet to the beginning of a curve concave Northwesterly having a radius of 350.00 feet;

Thence Northeasterly along the arc of said curve through a central angle of 43 degrees 19 minutes 41 seconds, for a distance of 264.68 feet to the POINT OF BEGINNING;

Thence continuing along said curve through a central angle of 59 degrees 10 minutes 19 seconds, for a distance of 361.46 feet;

Thence North 41 degrees 07 minutes 23 seconds West for a distance of 305.00 feet to the beginning of a curve concave Northeasterly having a radius of 1280.38 feet;

Thence Northwesterly along the arc of said curve through a central angle of 08 degrees 55 minutes 54 seconds, for a distance of 199.59 feet;

Thence North 32 degrees 11 minutes 29 seconds West for a distance of 207.00 feet;

Thence North 57 degrees 48 minutes 31 seconds East for a distance of 167.00 feet to the beginning of a curve concave Southeasterly having a radius of 302.22 feet;

Thence Northeasterly along the arc of said curve through a central angle of 36 degrees 37 minutes 01 seconds, for a distance of 193.15 feet;

Thence South 85 degrees 34 minutes 28 seconds East for a distance of 46.74 feet; Thence South 04 degrees 25 minutes 32 seconds West for a distance of 100.00 feet;

Thence North 85 degrees 34 minutes 28 seconds West for a distance of 46.74 feet to the beginning of a curve concave Southeasterly having a radius of 202.22 feet;

Thence Southwesterly along the arc of said curve through a central angle of 36 degrees 37 minutes 01 seconds, for a distance of 129.24 feet;

Thence South 57 degrees 48 minutes 31 seconds West for a distance of 67.00 feet;

Thence South 32 degrees 11 minutes 29 seconds East for a distance of 107.00 feet to the beginning of a curve concave Northeasterly having a radius of 1180.38 feet;

Thence Southeasterly along the arc of said curve through a central angle of 08 degrees 55 minutes 54 seconds, for a distance of 184.01 feet;

Thence South 41 degrees 07 minutes 23 seconds East for a distance of 305.00 feet to the beginning of a curve concave Northwesterly having a radius of 450.00 feet;

Thence Southwesterly along the arc of said curve through a central angle of 59 degrees 10 minutes 19 seconds, for a distance of 464.73 feet;

Thence North 71 degrees 57 minutes 04 seconds West for a distance of 166.41 feet back to the POINT OF BEGINNING.

Parcel No. 3

Parcel “R. “V.- “S”- “0”

The following parcel is located within Sections 10, 14 and 15, Township 14 North, Range 4 East of the Gila and Salt River Base and Meridian, Yavapai County, Arizona, described as follows:

COMMENCING at the Northeast corner of the West half of the Southwest quarter of Section 11;

Thence South 01 degrees 15 minutes 21 seconds West along the East line of the said West half of the Southwest quarter of Section 11 for a distance of 2626.54 feet to the Southeast corner of said West half of the Southwest quarter of Section 11 being the same point as the Northeast corner of the West half of the Northwest quarter of Section 14;

Thence South 02 degrees 12 minutes 45 seconds West along the East line of the said West half of the Northwest quarter of Section 14 for a distance of 1033.72 feet being the TRUE POINT OF BEGINNING;

Thence continuing South 02 degrees 12 minutes 45 seconds West along said East line for a distance of 1773.72 feet to the Southeast corner of the said West half of the Northwest quarter of Section 14;

Thence South 88 degrees 17 minutes 45 seconds West along the South line of the said West half Of the Northwest quarter of Section 14 for a distance of 1339.71 feet more or less to the quarter corner common to said Sections 14 and 15;

Thence North 85 degrees 05 minutes 52 seconds West along the South line of the Northeast quarter of said Section 15 for a distance of 1405.30 feet to a point on the East right of way line of Highway 279, being also a point on a curve concave Northeasterly having a radius of 7539.44 feet;

Thence Northwesterly along said right of way and the arc of said curve through a central angle of 04 degrees 31 minutes 40 seconds, for a distance of 595.82 feet;

Thence continuing along said right of way line North 28 degrees 37 minutes 23 seconds West for a distance of 2193.14 feet to the beginning of a curve concave Southwesterly having a radius of 7739.44 feet;

Thence continuing along the East right of way of Highway 279 Northwesterly along the arc of said curve through a central angle of 04 degrees 01 minutes 43 seconds, for a distance of 544.17 feet to a point on the South line of Section 10;

Thence South 88 degrees 35 minutes 05 seconds East along said South line for a distance of 278.10 feet to a point on the center line of Old State Highway 279;

Thence North 19 degrees 08 minutes 50 seconds West along said center line for a distance of 145.00 feet; Thence North 70 degrees 51 minutes 10 seconds East for a distance of 120.00 feet;

Thence South 77 degrees 01 minutes 09 seconds East for a distance of 979.14 feet; Thence South 04 degrees 56 minutes 21 seconds East for a distance of 487.81 feet;

Thence North 85 degrees 34 minutes 28 seconds West for a distance of 46.74 feet to the beginning of a curve concave Southerly having a radius of 302.22 feet;

Thence Westerly along the arc of said curve through a central angle of 36 degrees 37 minutes 01 seconds, for a distance of 193.15 feet;

Thence South 57 degrees 48 minutes 31 seconds, for a distance of 167.00 feet;

Thence South 32 degrees 11 minutes 29 seconds East for a distance of 207.00 feet to the beginning of a curve concave Northeasterly having a radius of 1280.38 feet;

Thence Southeasterly along said curve through a central angle of 08 degrees 55 minutes 54 seconds, for a distance of 199.59 feet;

Thence South 41 degrees 07 minutes 23 seconds East for a distance of 305.00 feet to the beginning of a curve concave Westerly having a radius of 350.00 feet;

Thence Southerly along the arc of said curve through a central angle of 59 degrees 10 minutes 19 seconds, for a distance of 361.46 feet;

Thence South 71 degrees 57 minutes 04 seconds East for a distance of 166.41 feet; Thence South 30 degrees 47 minutes 46 seconds East for a distance of 351.57 feet; Thence North 77 degrees 41 minutes 31 seconds East for a distance of 56.29 feet; Thence South 21 degrees 48 minutes 05 seconds East for a distance of 80.78 feet; Thence South 62 degrees 14 minutes 29 seconds West for a distance of 42.94 feet; Thence South 20 degrees 06 minutes 28 seconds East for a distance of 614.00 feet;

Thence North 49 degrees 29 minutes 15 seconds East for a distance of 382.65 feet to the beginning of a curve concave Southeasterly having a radius of 87.50 feet;

Thence Northeasterly along the arc of the said curve through a central angle of 25 degrees 30 minutes 45 seconds, for a distance of 38.96 feet to the point of reverse curvature said curve being concave Northwesterly having a radius of 60.00 feet;

Thence Northeasterly along the arc of said curve through a central angle of 53 degrees 04 minutes 16 seconds, for a distance of 55.58 feet;

Thence South 68 degrees 04 minutes 16 seconds East for a distance of 113.92 feet; Thence South 24 degrees 26 minutes 18 seconds West for a distance of 419.24 feet; Thence South 85 degrees 05 minutes 52 seconds East for a distance of 425.00 feet;

Thence North 14 degrees 34 minutes 17 seconds East for a distance of 239.53 feet to a point on a curve concave Southeasterly having a radius of 342.81 feet;

Thence Northeasterly along the arc of said curve through a central angle of 47 degrees 15 minutes 51 seconds, for a distance of 282.79 feet;

Thence North 61 degrees 50 minutes 08 seconds East for a distance of 619.06 feet; Thence North 41 degrees 55 minutes 02 seconds East for a distance of 486.49 feet;

Thence North 52 degrees 25 minutes 21 seconds East for a distance of 702.24 feet back to the POINT OF BEGINNING.

EXCEPT the area within the right of way of Old State Highway 279, and subject to easements for ingress, egress and utilities over the following parcels.

Easement “C”

COMMENCING at the Northeast corner of the said West half of the Southwest quarter of Section 11;

Thence South 01 degrees 15 minutes 21 seconds West along the East line of the said West half of the Southwest quarter of Section 11 for a distance of 2626.54 feet to the Southeast corner of said West half of the Southwest quarter of Section 11 being the same point as the Northeast corner of the West half of the Northwest quarter of said Section 14;

Thence 02 degrees 12 minutes 45 seconds West along the East line of said West half of the Northwest quarter of Section 14 for a distance of 2807.44 feet to the Southeast corner of said West half of the Northwest quarter of Section 14;

Thence South 88 degrees 17 minutes 45 seconds West along the South line of said West half of the Northwest quarter of Section 14 for a distance of 1339.71 feet more or less to the quarter corner common to said Section 14 and 15;

Thence North 85 degrees 05 minutes 52 seconds West along the South line of the Northeast quarter of said Section 15 for a distance of 1405.30 feet to a point on the East right of way line of Highway 279, being also a point on a curve concave Northeasterly having a radius of 7539.44 feet;

Thence Northwesterly along said right of way and the arc of said curve through a central angle of 04 degrees 31 minutes 40 seconds, for a distance of 595.82 feet;

Thence continuing along said right of way North 28 degrees 37 minutes 23 seconds West for a distance of 459.92 feet to the POINT OF BEGINNING;

Thence continuing along said right of way North 28 degrees 37 minutes 23 seconds West for a distance of 100.00 feet;

Thence North 61 degrees 22 minutes 37 seconds East for a distance of 275.55 feet to the beginning of a curve concave Northwesterly having a radius of 350.00 feet;

Thence along the arc of said curve through a central angle of 43 degrees 19 minutes 41 seconds, for a distance of 264.68 feet;

Thence South 71 degrees 57 minutes 04 seconds East for a distance of 100.00 feet to the beginning of a curve concave Northwesterly having a radius of 450.00 feet;

Thence Southwesterly along the arc of said curve through a central angle of 43 degrees 19 minutes 41 seconds, for a distance of 340.30 feet;

Thence South 61 degrees 22 minutes 37 seconds West for a distance of 275.55 feet to the POINT OF BEGINNING.

Easement “D”

COMMENCING at the Northeast corner of the said West half of the Southwest quarter of Section 11;

Thence South 01 degrees 15 minutes 21 seconds West along the East line of the said West half of the Southwest quarter of Section 11 for a distance of 2626.54 feet to the Southeast corner of said West half of Southwest quarter of Section 11 being the same point as the Northeast corner of the West half of the Northwest quarter of said Section 14;

Thence South 02 degrees 12 minutes 45 seconds West along the East line of said West half of the Northwest quarter of Section 14 for a distance of 2807.44 feet to the Southeast corner of said West half of the Northwest quarter of Section 14;

Thence South 88 degrees 17 minutes 45 seconds West along the South line of the said West half of the Northwest quarter of Section 14 for a distance of 1339.71 feet more or less to the quarter corner common to said Section 14 and 15;

Thence North 85 degrees 05 minutes 52 seconds West along the South line of the Northeast quarter of said Section 15 for a distance of 1405.30 feet to a point on the East right of way line of Highway 279, being also a point on a curve concave Northeasterly having a radius of 7539.44 feet;

Thence Northwesterly along said right of way and the arc of said curve through a central angle of 04 degrees 31 minutes 40 seconds, for a distance of 595.82 feet;

Thence continuing along said East right of way North 28 degrees 37 minutes 23 seconds West for a distance of 2193.14 feet to the beginning of a curve concave Southwesterly having a radius of 7739.44 feet;

Thence continuing along the East right of way of Highway 279 Northwesterly along the arc of said curve through a central angle of 01 degrees 43 minutes 56 seconds, for a distance of 233.99 feet to the POINT OF BEGINNING;

Thence continuing along the East right of way line of Highway 279 and the arc of said curve through a central angle of 00 degrees 44 minutes 49 seconds, for a distance of 100.90 feet;

Thence North 66 degrees 50 minutes 41 seconds East for a distance of 272.77 feet to the beginning of a curve concave Southwesterly having a radius of 350.00 feet;

Thence Southeasterly along the arc of said curve through a central angle of 80 degrees, 57 minutes 50 seconds, for a distance of 494.58 feet;

Thence South 32 degrees 11 minutes 29 seconds East for a distance of 482.52 feet; Thence South 57 degrees 48 minutes 31 seconds West for a distance of 100.00 feet;

Thence North 32 degrees 11 minutes 29 seconds West for a distance of 482.52 feet to the beginning of a curve concave Southwesterly having a radius of 250.00 feet;

Thence Northwesterly along the arc of said curve through a central angle of 80 degrees 57 minutes 50 seconds, for a distance of 353.27 feet;

Thence South 66 degrees 50 minutes 41 seconds West for a distance of 259.48 feet back to the POINT OF BEGINNING.

Easement “E”

COMMENCING at the Northeast corner of the said West half of the Southwest quarter of Section 11;

Thence South 01 degrees 15 minutes 21 seconds West along the East line of the said West half of the Southwest quarter of Section 11 for a distance of 2626.54 feet to the Southeast corner of said West half of the Southwest quarter of Section 11 being the same point as the Northeast corner of the West half of the Northwest quarter of said Section 14;

Thence South 02 degrees 12 minutes 45 seconds West along the East line of said West half of the Northwest quarter of Section 14 for a distance of 2807.44 feet to the Southeast corner of said West half of the Northwest quarter of Section 14;

Thence South 88 degrees 17 minutes 45 seconds West along the South line of the said West half of the Northwest quarter of Section 14 for a distance of 1339.71 feet more or less to the quarter corner common to said Section 14 and 15;

Thence North 85 degrees 05 minutes 52 seconds West along the South line of the Northeast quarter of said Section 15 for a distance of 1405.30 feet to a point on the East right of way line of Highway 279, being along a point on a curve concave Northeasterly having a radius of 7539.44 feet;

Thence Northwesterly along said right of way and the arc of said curve through a central angle of 04 degrees 31 minutes 40 seconds, for a distance of 595.82 feet;

Thence continuing along said right of way North 28 degrees 37 minutes 23 seconds West for a distance of 559.92 feet;

Thence North 61 degrees 22 minutes 37 seconds East for a distance of 275.55 feet to the beginning of a curve concave Northwesterly having a radius of 350.00 feet;

Thence Northeasterly along the arc of said curve through a central angle of 43 degrees 19 minutes 41 seconds, for a distance of 264.68 feet to the POINT OF BEGINNING;

Thence continuing along said curve through a central angle of 59 degrees 10 minutes 19 seconds, for a distance of 361.46 feet;

Thence North 41 degrees 07 minutes 23 seconds West for a distance of 305.00 feet to the beginning of a curve concave Northeasterly having a radius of 1280.38 feet;

Thence Northwesterly along the arc of said curve through a central angle of 08 degrees 55 minutes 54 seconds, for a distance of 199.59 feet;

Thence North 32 degrees 11 minutes 29 seconds West for a distance of 207.00 feet;

Thence North 57 degrees 48 minutes 31 seconds East for a distance of 167.00 feet to the beginning of a curve concave Southeasterly having a radius of 302.22 feet;

Thence Northeasterly along the arc of said curve through a central angle of 36 degrees 37 minutes 01 seconds, for a distance of 193.15 feet;

Thence South 85 degrees 34 minutes 28 seconds East for a distance of 46.74 feet; Thence South 04 degrees 25 minutes 32 seconds West for a distance of 100.00 feet;

Thence North 85 degrees 34 minutes 28 seconds West for a distance of 46.74 feet to the beginning of a curve concave Southeasterly having a radius of 202.22 feet;

Thence Southwesterly along the arc of said curve through a central angle of 36 degrees 37 minutes 01 seconds, for a distance of 129.24 feet;

Thence South 57 degrees 48 minutes 31 seconds West for a distance of 67.00 feet;

Thence South 32 degrees 11 minutes 29 seconds East for a distance of 107.00 feet to the beginning of a curve concave Northeasterly having a radius of 1180.38 feet;

Thence Southeasterly along the arc of said curve through a central angle of 08 degrees 55 minutes 54 seconds, for a distance of 184.01 feet;

Thence South 41 degrees 07 minutes 23 seconds, for a distance of 305.00 feet to the beginning of a curve concave Northwesterly having a radius of 450.00 feet;

Thence Southwesterly along the arc of said curve through a central angle of 59 degrees 10 minutes 19 seconds, for a distance of 464.73 feet;

Thence North 71 degrees 57 minutes 04 seconds West for a distance of 166.41 feet back to the POINT OF BEGINNING.

Parcel No. 4

The following parcels are all located within Sections 9, 10 and 11 of Township 14 North, Range 4 East of the Gila and Salt River Base and Meridian, Yavapai County, Arizona.

Being the South half of the North half of Section 10 lying East of the East right of way of Old State Highway 279 and the Southwest quarter of the Northwest quarter of Section 11, Township 14 North, Range 4 East of the Gila and Salt River Base and Meridian, Yavapai County, Arizona, Excepting therefrom the following described parcel:

COMMENCING at the West quarter corner of said Section 10;

Thence North 00 degrees 26 minutes 29 seconds East, for a distance of 1284.20 feet to a point in the centerline of Old State Highway 279 being also the POINT OF BEGINNING;

Thence North 32 degrees 12 minutes 47 seconds West, along the centerline for a distance of 58.21 feet to a point on the North line of the South half of the North half of said Section 9;

Thence South 87 degrees 33 minutes 24 seconds East, along the North lines of Section 9 and 10 for a distance of 560.00 feet;

Thence South 60 degrees 19 minutes 35 seconds West, for a distance of 460.57 feet to a point on said centerline;

Thence continuing along said centerline North 32 degrees 18 minutes 47 seconds West, for a distance of 240.00 feet back to the POINT OF BEGINNING.

Parcel No. 5

That portion of the South half of Section 10 lying East of the East right of way line of Old State Highway 279 and the West half of the Southwest quarter of Section 11.

Described as follows:

BEGINNING at the Northeast corner of the said West half of the Southwest quarter of Section 11;

Thence South 01 degrees 15 minutes 21 seconds West along the East line of the said West half of the Southwest quarter of Section 11 for a distance of 613.28 feet;

Thence North 87 degrees 33 minutes 24 seconds West for a distance of 5,335.16 feet to a point on the centerline of Old State Highway 279;

Thence North 32 degrees 18 minutes 39 seconds West along said centerline for a distance of 740.82 feet to a point on the North line of the said South half of Section 10;

Thence South 87 degrees 36 minutes 05 seconds East along the North line of said South half of Section 10 and the North line of the said West half of the Southwest quarter of Section 11 for a distance of 5,744.76 feet back to the POINT OF BEGINNING.

EXCEPT the area within the right of way of Old State Highway 279 now known as State Highway 260.

Parcel No. 6

The following parcel is located within Sections 9 and 10 of Township 14 North, Range 4 East of the Gila and Salt River Base and Meridian, Yavapai County, Arizona.

COMMENCING at the West quarter corner of said Section 10;

Thence North 00 degrees 26 minutes 29 seconds East, for a distance of 1284.20 feet to a point in the centerline of Old State Highway 279 being also the POINT OF BEGINNING;

Thence North 32 degrees 12 minutes 47 seconds West, along the centerline for a distance of 58.21 feet to a point on the North line of the South half of the North half of said Section 9;

Thence South 87 degrees 33 minutes 24 seconds East, along the North lines of Sections 9 and 10 for a distance of 560.00 feet;

Thence South 60 degrees 19 minutes 35 seconds West, for a distance of 460.57 feet to a point on said centerline;

Thence continuing along said centerline North 32 degrees 18 minutes 47 seconds West, for a distance of 240.00 feet back to the POINT OF BEGINNING.

EXCEPT the area within the right of way of Old State Highway 279.

Clarkdale 1969 (Clarkdale 1 Gulf States) 27.13 Acres

A tract of land in Section Nineteen, Township Sixteen North, Range Three East of the Gila and Salt River Base and Meridian, Yavapai County, Arizona, described as follows:

COMMENCING at the intersection of the northerly right-of-way line of Main Street and the Westerly right-of-way line of 16th Street as shown on the plat of Clarkdale, Arizona, of record in Book 5 of Plats, at page 83, in the office of the County Recorder of Yavapai County, Arizona; thence North 44°37′ West, 121.9 feet along said right-of-way line of 16th Street; thence North 34°23′ West, 20.0 feet along said right-of-way line; thence South 55°37′ West,

643.35 feet; thence South 85°43′ West, 964.0 feet; thence South 32°16′30″ West, 213.68 feet to the POINT OF BEGINNING; thence South 32°16′30″ West, 328.0 feet; thence North 30°48′30″ West, 485.0 feet; thence North 24°50′ West, 687.9 feet; thence North 56°50′05″ East, 1982.39 feet to a point on the centerline of the existing A.T. & S.F. Railway; thence along a curve to the left, on said centerline, with a radius of 1096.15 feet, the chord of which curve bears South 64°02′ East, 393.2 feet; thence West, 513.8 feet; thence South 24°26′47″ West, 1855.2 feet to the POINT OF BEGINNING.

Clarkdale 1969 (Clarkdale 2 Clarkdale Realty) 31.37 Acres

A tract of land In Section Nineteen, Township Sixteen North, Range Three East, of the Gila and Salt River Base and Meridian, Yavapai County, Arizona, described as follows:

COMMENCING at the intersection of the Northerly right-of-way line of Main Street and the Westerly right-of-way line of 16th Street, as shown on the plat of Clarkdale, Arizona, of record in Book 5 of Plats, at page 83, in the office of the County Recorder of Yavapai County, Arizona; thence North 44°37′ West, 121.9 feet along said right-of-way line of 16th street; thence North 34°23′ West, 20.0 feet along said right-of-way line to the POINT OF BEGINNING; thence South 55°37′ West, 643.35 feet; thence South 85°43′ West, 964.0 feet; thence South 32°16′30″ West, 213.68 feet; thence North 24°46′47″ East, 1855.2 feet; thence East 513.8 feet to a point in the centerline of the existing A.T. & S.F. Railway; thence 262.0 feet along a curve to the left, on said Railway centerline, with a radius of 1096.15 feet, the chord of which curve bears South 81°13′ East, to a point of tangency; thence South 88°04′ East, 115.06 feet along said centerline of Railway; thence South 39°37′ West, 655.0 feet; thence South 34°23′ East, 619.65 feet to the POINT OF BEGINNING.

Clarkdale 2006 (Kwail Heights/Beaver Creek) 37.50 Acres

A tract of land which is the Southwest quarter of the Southwest quarter of Section 19, Township 16 North, Range 3 East of the Gila and Salt River Base and Meridian, Yavapai County, Arizona:

BEGINNING at a found 3 inch brass cap in 4 inch pipe and concrete at the Southwest corner of Section 19 (marked Dr. Morgan Johnson—PE 4603—1967—Phoenix Consulting Engineers), from which the quarter corner common to Section 19 and 30 (a found 3 inch brass cap in 4 inch pipe and concrete (marked Dr. Morgan Johnson—PE 4603—1967 Phoenix Consulting Engineers); bears North 89 degrees 58 minutes 22 seconds East, 2546.41 feet;

Thence along the West boundary of Section 19, North 00 degrees 04 minutes 23 seconds East, 1321.61 (record North 00 degrees 05 minutes 40 seconds East, 1319.48 feet) to a found 3 inch brass cap in a 4 inch pipe and concrete (marked Dr. Morgan Johnson—PE 4603—1967);

Thence along the North boundary of the Southwest quarter of the Southwest quarter of Section 19, South 89 degrees 56 minutes 45 seconds East, 1223.20 feet (record North 89 degrees 56 minutes 46 seconds East, 1222.41 feet) to a found 3 inch brass cap in 4 inch pipe and concrete (marked Dr. Morgan Johnson—PE 4603—1967);

Thence along the East boundary of the Southwest quarter of the Southwest quarter of Section 19, South 00 degrees 06 minutes 01 seconds East, 1319.86 feet (record South 00 degrees 06 minutes 09 seconds, East, 1320.50) to a found ½ inch rebar with plastic cap “LS 25384”;

Thence along the South boundary of Section 19—South 89 degrees 58 minutes 22 seconds West, 1227.21 feet (record South 89 degrees 58 minutes 22 seconds West, 1226.94 feet) to the BEGINNING.

Clarkdale 2006 (Clarkdale/Beecher) .69 Acres

A parcel of land located in Section 19, Township 16 North, Range 3 East of the Gila and Salt River Base and Meridian, Yavapai County, Arizona, and being more particularly described in the following courses:

COMMENCING at the intersection of 16th Street and Main Street as shown on the map of the Town of Clarkdale as recorded in Book 5, Page 83, Yavapai County Records;

Thence South 55 degrees 43 minutes 40 seconds West, along a prolongation of a line between monuments at the centerline intersection of 15th Street and Main Street and the centerline intersection of 14th Street and Main Street as shown on the said map of the Town of Clarkdale a distance of 460.30 feet;

Thence North 34 degrees 07 minutes 05 seconds West, a distance of 37.50 feet to a ⅜ inch iron pin as located in the field;

Thence continuing North 34 degrees 07 minutes 05 seconds West, a distance of 120.15 feet to a ½ inch iron pin as located in the field;

Thence South 55 degrees 30 minutes 38 seconds West, a distance of 186.35 feet to the TRUE POINT OF BEGINNING;

Thence continuing South 55 degrees 30 minutes 38 seconds West, a distance of 363.65 feet to a ½ inch iron pin as located in the field;

Thence South 59 degrees 36 minutes 24 seconds West, a distance of 89.53 feet to a ⅜ inch iron pin as located in the field;

Thence South 29 degrees 27 minutes 40 seconds East, a distance of 119.38 feet to a ⅜ inch iron pin as located in the field;

Thence North 31 degrees 2.5 minutes 18 seconds West, parallel to and 25.00 feet Easterly of the centerline of an existing paved street, as located in the field, a distance of 118.39 feet to a point of curvature;

Thence Northerly along the arc of a curve to the left, through a central angle of 36 degrees 29 minutes 16 seconds and having a radius of 237.51 feet, a distance of 151.25 feet to a point of tangency;

Thence North 67 degrees 54 minutes 34 seconds West, parallel to and 25.00 feet Northerly of the said centerline of an existing paved street, a distance of 69.06 feet to a point of curvature;

Thence Northerly along the arc of a curve to the right through a central angle of 51 degrees 57 minutes 58 seconds and having a radius of 118.29 feet, a distance of 107.29 feet to a point on the Southerly boundary of the Yavapai-Apache Indian Reservation, as recorded in Book 544, of Official Records, Pages 751-754, Yavapai County Records;

Thence North 85 degrees 36 minutes 38 seconds East (basis of bearing) along the said Southerly boundary of the Yavapai-Apache Indian Reservation, a distance of 573.19 feet to a point;

Thence North 55 degrees 30 minutes 38 seconds East, along the said Southerly boundary of the Yavapai-Apache Indian Reservation, a distance of 53.92 feet to a point;

Thence South 28 degrees 26 minutes 12 seconds East, a distance of 22.39 feet to the TRUE POINT OF BEGINNING;

EXCEPTING therefrom the following described property:

A parcel of land located in Section 19, Township 16 North, Range 3 East of the Gila and Salt River Base and Meridian, Yavapai County, Arizona, being adjacent to the South line of the Yavapai-Apache Indian Reservation and at the Northeast quadrant of the intersection of Main Street and ”F” Street in the Town of Clarkdale, and more particularly described in the following courses:

BEGINNING for reference at the intersection of the North right-of-way line of Main Street (33.00 feet to center line) and the East right-of-way line of “F” Street (25.00 feet to center line):

Thence North 29 degrees 27 minutes 40 seconds West, a distance of 119.38 feet; Thence North 59 degrees 36 minutes 24 seconds East, a distance of 89.54 feet; Thence North 55 degrees 30 minutes 38 seconds East, a distance of 363.65 feet; Thence North 28 degrees 26 minutes 12 seconds West, a distance of 22.30 feet;

Thence South 55 degrees 30 minutes 38 seconds West, a distance of 53.93 feet; Thence South 85 degrees 36 minutes 38 seconds West, a distance of 272.00 feet; Thence South 09 degrees 04 minutes 26 seconds East, a distance of 75.89 feet; Thence South 53 degrees 04 minutes 09 seconds West, a distance of 146.59 feet;

Thence along a non-tangent curve to the right, having a central angle of 19 degrees 02 minutes 52 seconds, a radius of 237.51 feet, a curve length of 78.96 feet;

Thence South 31 degrees 25 minutes 18 seconds East, along the East right-of-way line of “F” Street a distance of 118.39 feet to the POINT OF BEGINNING.

Clarkdale 2006 (Kwail Heights/Selna Mongini) 17.30 Acres

A tract of land in the Northeast quarter of the Southwest quarter of Section 19, Township 16 North, Range 3 East of the Gila and Salt River Base and Meridian, Yavapai County, Arizona;

BEGINNING at a found 3 inch brass cap in 4 inch pipe and concrete marked Dr. Morgan Johnson, PE 4603,; 1967 the Southwest corner of the Northeast quarter of the Southwest quarter of Section 19 from which the Northwest corner of the Northeast quarter of the Southwest quarter of Section 19 (a found 3 inch brass cap in 4 inch pipe and concrete marked Dr. Morgan Johnson, PE 4603, 1967) bears North 00 degrees 06 minutes 48 seconds West 1320.54 feet (record North 00 degrees 06 minutes 09 seconds West 1320.05 feet);

Thence North 00 degrees 06 minutes 48 seconds West 873.54 feet to a set ½ inch rebar with plastic cap LS 25384;

Thence North 89 degrees 54 minutes 54 seconds East 713.81 feet (record North 89 degrees 55 minutes 09 second East 718.04 feet) to a found ⅝ inch rebar with plastic cap RLS 26925;

Thence along a non-tangent curve to the left and the West right-of-way of Cement Plant Road having a central angle of 09 degrees 53 minutes 21 seconds a radius of 2924.95 feet, a length of 504.84 feet and a chord bearing South 32 degrees 59 minutes 42 seconds East 504.22 feet (record radius of 2924.95 feet) to a set ½ inch rebar with plastic cap LS 25384;

Thence South 24 degrees 55 minutes 13 seconds West 496.95 feet (record South 24 degrees 56 minutes 27 seconds' West 497.37 feet) to a found ½ inch rebar with plastic cap PE 6402;

Thence South 89 degrees 55 minutes 28 seconds West 782.27 feet (record South 89 degrees 56 minutes 46 seconds West 782.23 feet) to the BEGINNING.

Rimrock 1967 (Rimrock) 3.76 Acres

That portion of the Northeast ¼ of Section 2, Township 14 North, Range 5 East, G&SRB&M, County of Yavapai, State of Arizona, more particularly described as follows: BEGINNING at the Northeast corner of said Section 2; thence South 00°57′16″ East along the East section line of said Section 2 a distance of 615.00′; thence South 84°06′08″ West a distance of 29.18′ to the true point of beginning; thence continuing South 84°06′08″ West a distance of 423.52′; thence North 45°43′03″ West a distance of 324.21′; thence North 30°58′26″ East a distance of 223.50′; thence North 89° 42′23″ East a distance of 201.04′; thence South 41°56′02″ East a distance of 504.75′ to the True Point of Beginning; an area of 3.7594 acres.

Rimrock 2021 (Rimrock Reeves) .17 Acres

Lot 282, LAKE MONTEZUMA HILLS, according to the plat of record in Book 12 of Maps, Page 95, and amended in Book 13 of Maps, Page 23, records of Yavapai County, Arizona.

EXCEPT all oil, gas and other minerals.

Montezuma 1974 (Montezuma) 74.84 Acres

Tract 37, Section 18, Township 14 North, Range 5 East, Gila and Salt River Base and Meridian, Yavapai County, Arizona, containing 74.84 acres.

Montezuma 2006 (Bar T Bar) 10.43 Acres

All that portion of Lot 10, Section 7, Township 14 North, Range 5 East, Gila and Salt River Base and Meridian, Yavapai County, Arizona, lying Northerly and Easterly of the Easterly right of way lines of Middle Verde Road, and Interstate 17.

The above-described lands contain a total of 1,308.67 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-15679 Filed 7-16-24; 8:45 am]

BILLING CODE 4337-15-P